DEPARTMENT OF THE INTERIOR

Bureau of Reclamation

List of Program Eligible for Inclusion in Fiscal Year 2007 Funding Agreements To Be Negotiated With Self-Governance Tribes

AGENCY: Bureau of Reclamation, Interior.

ACTION: Notice.

SUMMARY: This notice lists program or portions of programs that are eligible for inclusion in Fiscal Year 2007 funding agreements with self-governance tribes and lists programmatic targets pursuant to section 405(c)(4) of the Tribal Self-Governance Act.

DATES: This notice expires on September 30, 2007.

ADDRESSES: Inquiries or comments regarding this notice may be directed to Mr. Richard Ives, Director, Native American and International Affairs Office, Bureau of Reclamation, 1849 C Street, NW., MS-7069-MIB, Washington, DC 20240.

SUPPLEMENTARY INFORMATION:

I. Background

Title II of the Indian Self-Determination Act Amendments of 1994 (Pub. L. 103-413, the “ Tribal Self-Governance Act” or the “Act”) instituted a permanent self-governance program at the Department of the Interior (DOI). Under the self-governance program certain programs, services, functions, and activities, or portions thereof, in DOI bureaus other than the Bureau of Indian Affairs (BIA) are eligible to be planned, conducted, consolidated, and administered by a self-governance tribal government.

Under section 405(c) of the Act, the Secretary of the Interior is required to publish annually: (1) A list of non-BIA programs, services, functions, and activities, or portions thereof, that are eligible for inclusion in agreements negotiated under the self-governance program; and (2) programmatic targets for these bureaus.

Under the Act, two categories of non-BIA programs are eligible for self-governance funding agreements (AFAs):

(1) Under section 403(b)(2) of the Act, any non-BIA program, service, function or activity that is administered by DOI that is “otherwise available to Indian tribes or Indians,” can be administered by a tribal government through a self-governance funding agreement. The Department interprets this provision to authorize the inclusion of programs eligible for self-determination contracts under Title I of the Indian Self-Determination and Education Assistance Act (Pub. L. 93-638, as amended). Section 403(b)(2) also specifies “nothing in this subsection may be construed to provide any tribe with a preference with respect to the opportunity of the tribe to administer programs, services, functions and activities, or portions thereof, unless such preference is otherwise provided by law.”

(2) Under section 403(c) of the Act, the Secretary may include other programs, services, functions, and activities or portions thereof that are of “special geographic, historical, or cultural significance” to a self-governance tribe.

Under section 403(k) of the Act, funding agreements cannot include programs, services, functions, or activities that are inherently Federal or where the statute establishing the existing program does not authorize the type of participation sought by the tribe. However, a tribe (or tribes) need not be identified in the authorizing statutes in order for a program or element to be included in a self-governance funding agreement. While general legal and policy guidance regarding what constitutes an inherently Federal function exists, we will determine whether a specific function is inherently Federal on a case-by-case basis considering the totality of circumstances.

Response to Comments

The Office of Self-Governance requested comments on the proposed list on June 14, 2006. A number of editorial and technical changes were provided by Interior's bureaus and incorporated into this Notice. While the Notice of June 14, 2006, illustrated all eligible non-BIA programs for DOI, this Notice is particular to the Bureau of Reclamation.

II. Eligible Non-BIA Programs of the Bureau of Reclamation

Below is a listing of the types of non-BIA programs, or portions thereof, that may be eligible for self-governance funding agreements because they are either “otherwise available to Indians” under Title I and not precluded by any other law, or may have “special geographic, historical, or cultural significance” to a participating tribe. The list represents the most current information on programs potentially available to tribes under a self-governance funding agreement.

The Bureau of Reclamation will also consider for inclusion in funding agreements other programs or activities not included below, but which, upon request of a self-governance tribe, the Bureau of Reclamation determines to be eligible under either sections 403(b)(2) or 403(c) of the Act. Tribes with an interest in such potential agreements are encouraged to begin such discussions.

The Bureau of Reclamation operates a wide range of water resource management projects for hydroelectric power generation, municipal and industrial water supplies, flood control, outdoor recreation, enhancement of fish and wildlife habitats, and research. Most of the Bureau of Reclamation's activities involve construction, operation and maintenance, and management of water resources projects and associated facilities. Components of the following water resource management and construction projects may be eligible for inclusion in a self-governance funding agreement.

1. Klamath Project, California and Oregon.

2. Trinity River Restoration Project, California and Oregon.

3. Central Arizona Project, Arizona and New Mexico.

4. Drought Relief, 17 Reclamation States.

5. Rocky Boy's/North Central Montana Regional Water System, Montana.

6. Indian Water Rights Settlement Projects, as Congressionally authorized.

For questions regarding self-governance contact Mr. Richard Ives, Director, Native American and International Affairs Office, Bureau of Reclamation, 1849 C Street, NW., MS-7069-MIB, Washington, DC 20240, telephone 202-513-0625, fax 202-513-0311.

III. Programmatic Targets

During Fiscal Year 2007, upon request of a self-governance tribe, the Bureau of Reclamation will negotiate funding agreements for its eligible programs beyond those already negotiated.

Dated: February 21, 2007.
Mark Limbaugh,
Assistant Secretary—Water and Science.

[FR Doc. 07-1323 Filed 3-16-07; 8:45 am]

BILLING CODE 4310-MN-M